FEDERAL COMMUNICATIONS COMMISSION

47 CFR Part 73

[DA 00-1961, MM Docket No. 00-155, RM-9924]

Radio Broadcasting Services; Las Vegas and Rowe, NM

AGENCY: Federal Communications Commission.

ACTION: Proposed rule.

SUMMARY: The Commission requests comments on a petition filed by Meadows Media, LLC, permittee of Station KTRL, Las Vegas, NM, seeking the substitution of Channel 275C3 for Channel 275C2 at Las Vegas, the reallotment of Channel 275C3 to Rowe, NM, as its first local aural service, and the modification of Station KTRL's construction permit accordingly. Channel 275C3 can be allotted to Rowe in compliance with the Commission's minimum distance separation requirements with a site restriction of 22.8 kilometers northeast, at coordinates 35-40-15 North Latitude; 105-33-06 West Longitude, to avoid short-spacings to Stations KIOT, Channel 273C, Los Lunas, NM, KAZX, Channel 275C, Kirtland, NM, and KTBL, Channel 277C, Albuquerque, NM. Petitioner is requested to provide further information concerning the status of Rowe as a community for allotment purposes and the areas and populations which will gain and lose service if the reallotment is granted.

DATES: Comments must be filed on or before October 16, 2000, and reply comments on or before October 31, 2000.

ADDRESSES: Federal Communications Commission, 445 12th Street, SW., Room TW-A325, Washington, DC 20554. In addition to filing comments with the FCC, interested parties should serve the petitioner, or its counsel or consultant, as follows:

FOR FURTHER INFORMATION CONTACT: Leslie K. Shapiro, Mass Media Bureau, (202) 418-2180.

SUPPLEMENTARY INFORMATION: This is a synopsis of the Commission's Notice of Proposed Rule Making, MM Docket No. 00-155, adopted August 16, 2000, and released August 25, 2000. The full text of this Commission decision is available for inspection and copying during normal business hours in the FCC Reference Center, 445 12th Street, SW., Washington, DC. The complete text of this decision may also be purchased from the Commission's copy contractor, International Transcription Services, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-22920 Filed 9-6-00; 8:45 am]

BILLING CODE 6712-01-P